DEPARTMENT OF AGRICULTURE

Forest Service

Del Norte Resource Advisory Committee

AGENCY: Forest Service, USDA.

ACTION: Notice of meeting.

SUMMARY: The Del Norte Resource Advisory Committee (RAC) will meet in Crescent City, California. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review 2011 project status and to discuss process the Committee will use to review and recommend fiscal year 2012 project proposals.

DATES: The meeting will be held August 20, 2012, 6 p.m.

ADDRESSES: The meeting will be held at the Del Norte County Unified School District, Redwood Room, 301 West Washington Boulevard, Crescent City CA 95531. Written comments may be submitted as described under Supplementary Information. All comments, including names and addresses when provided, are placed in the record and are available for public inspection and copying. The public may inspect comments received at Six Rivers National Forest Supervisor's Office, 1330 Bayshore Way, Eureka, CA. 95501. Please call ahead to 707-442-1721 to facilitate entry into the building to view comments.

FOR FURTHER INFORMATION CONTACT: Lynn Wright, Committee Coordinator, (707)441-3562; email hwright02@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The following business will be conducted: report on 2011 project status and discussion of process the Committee will use to review and recommend fiscal year 2012 project proposals. For more information contact Lynn Wright, Committee Coordinator, (707)441-3562; email hwright02@fs.fed.us. Anyone who would like to bring related matters to the attention of the committee may file written statements with the committee staff before or after the meeting The agenda will include time for people to make oral statements of three minutes or less. Individuals wishing to make an oral statement should request in writing by August 15th, 2012 to be scheduled on the agenda. Written comments and requests for time for oral comments must be sent to Six Rivers National Forest Supervisor's Office, 1330 Bayshore Way, Eureka, CA. 95501, Attn. Lynn Wright, or by email to hwright02@fs.fed.us, or via facsimile to (707)445-8677. A summary of the meeting will be posted at http://www.fs.usda.gov/main/srnf/home within 21 days of the meeting.

Meeting Accommodations: If you are a person requiring reasonable accomodation, please make requests in advance for sign language interpreting, assistive listening devices or other reasonable accomodation for access to the facility or procedings by contacting the person listed under For Further Information Contact. All reasonable accommodation requests are managed on a case by case basis.

Dated: August 1, 2012.
Tyrone Kelley,
Forest Supervisor.

[FR Doc. 2012-19385 Filed 8-7-12; 8:45 am]

BILLING CODE 3410-11-P